DEPARTMENT OF TRANSPORTATION

Federal Aviation Administration

14 CFR Part 39

[Docket No. FAA-2006-25928; Directorate Identifier 2006-CE-53-AD; Amendment 39-14797; AD 2006-21-12]

RIN 2120-AA64

Airworthiness Directives; AeroSpace Technologies of Australia Pty Ltd. Models N22B, N22S, and N24A Airplanes

AGENCY: Federal Aviation Administration (FAA), DOT.

ACTION: Final rule; request for comments

SUMMARY: The FAA is adopting a new airworthiness directive (AD) to supersede AD 2003-22-13, which applies to all AeroSpace Technologies of Australia Pty Ltd. (ASTA) Models N22B and N24A airplanes. AD 2003-22-13 currently requires you to visually inspect the ailerons for damage and replace if necessary; adjust the engine power levers aural warning microswitches; set flap extension and flap down operation limitations; and fabricate and install cockpit flap extension and flap down operation restriction placards. This AD results from mandatory continuing airworthiness information (MCAI) issued by the airworthiness authority for Australia. The FAA inadvertently omitted Model N22S airplanes from the applicability of AD 2003-22-13. Therefore, this AD retains the actions exactly as required in AD 2003-22-13 and adds Model N22S airplanes to the Applicability section. We are issuing this AD to prevent failure of the aileron due to undetected pre-existing aileron damage and airplane operation outside of the approved limits. Aileron failure could lead to reduced or loss of control of the airplane.

DATES: This AD becomes effective on November 8, 2006.

As of November 8, 2006, the Director of the Federal Register approved the incorporation by reference of certain publications listed in the regulation.

We must receive any comments on this AD by November 20, 2006.

ADDRESSES: Use one of the following to comment on this AD:

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

To get the service information identified in this AD, contact Nomad Operations, Aerospace Support Division, Boeing Australia, PO Box 767, Brisbane, QLD 4000 Australia; telephone 61 7 3306 3366; fax 61 7 3306 3111.

To view the comments to this AD, go to http://dms.dot.gov. The docket number is FAA-2006-25928; Directorate Identifier 2006-CE-53-AD.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION:

Discussion

The Civil Aviation Safety Authority (CASA), which is the airworthiness authority for Australia, reported several incidents of ailerons incurring damage during flight. Extensive tests and analysis revealed the cause of the damage to the ailerons resulted from operation outside approved limits and undetected pre-existing damage.

The CASA lowered the operational limits of the affected airplanes in order to prevent damage from occurring. Additional reports of aileron flutter were received even when operating within these lower approved limits. As a precautionary measure, the CASA further restricted flight operations by issuing Australian AD Number AD/GAF-N22/69, Amendment 4, dated February 27, 2003.

This situation prompted us to issue AD 2003-22-13, Amendment 39-13361 (68 FR 64270, November 13, 2003). AD 2003-22-13 currently requires the following on all ASTA Models N22B and N24A airplanes:

—Visually inspecting the ailerons for damage and replacing if necessary;

—Adjusting the engine power levers aural warning microswitches;

—Setting flap extension and flap down operation limitations; and

—Fabricating and installing cockpit flap extension and flap down operation restriction placards.

Since we issued AD 2003-22-13, the CASA issued Australian AD Number AD/GAF-N22/69, Amendment 5, issued September 14, 2006, effective on October 26, 2006. That AD clarifies that N22 series and Model N24S airplanes with float/amphibian configuration are included in the Applicability section of their AD.

Upon reviewing Amendment 5 of the CASA AD to ensure N22 series and Model N24S airplanes with float/amphibian configuration were included in the Applicability section of AD 2003-22-13, we realized that we inadvertently omitted Model N22S airplanes from the Applicability section.

Models N22B and N24A airplanes with float/amphibian configuration were affected by AD 2003-22-13 because we included all serial numbers in the Applicability section.

This condition, if not corrected, could result in aileron failure. Such failure could lead to reduced or loss of control of the airplane.

Relevant Service Information

We reviewed Nomad Alert Service Bulletin ANMD-57-18, Rev 1, dated August 14, 2006. The service information describes procedures for:

—Adjusting the engine power levers aural warning microswitches;

—Setting flap extension and flap down operation limitations; and

—Fabricating and installing cockpit flap extension and flap down operation restriction placards.

FAA's Determination and Requirements of This AD

These ASTA Models N22B, N22S, and N24A airplanes are manufactured in Australia and are type-certificated for operation in the United States under the provisions of § 21.29 of the Federal Aviation Regulations (14 CFR 21.29) and the applicable bilateral airworthiness agreement.

Under this bilateral airworthiness agreement, the CASA has kept us informed of the situation described above. We are issuing this AD because we evaluated all the information and determined the unsafe condition described previously is likely to exist or develop on other products of the same type design. This AD supersedes AD 2003-22-13 with a new AD that retains the actions exactly as required in AD 2003-22-13, adds Model N22S airplanes to the Applicability section, and clarifies applicability to airplanes with float/amphibian configuration.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2006-25928; Directorate Identifier 2006-CE-53-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-22-13, Amendment 39-13361 (68 FR 64270, November 13, 2003) and adding the following new AD:

2006-21-12 AeroSpace Technologies of Australia Pty Ltd.: Amendment 39-14797; Docket No. FAA-2006-25928; Directorate Identifier 2006-CE-53-AD.

Effective Date

(a) This AD becomes effective on November 8, 2006.

Affected ADs

(b) Supersedes AD 2003-22-13, Amendment 39-13361.

Applicability

(c) This AD affects Models N22B, N22S, and N24A airplanes, all serial numbers including airplanes with float/amphibian configuration, that are certificated in any category.

Unsafe Condition

(d) This AD is the result of mandatory continuing airworthiness information (MCAI) issued by the airworthiness authority for Australia. We are issuing this AD to prevent failure of the aileron due to undetected pre-existing aileron damage and airplane operation outside of the approved limits. Aileron failure could lead to reduced or loss of control of the airplane.

Compliance

(e) To address this problem, you must do the following:

Actions | Compliance | Procedures
(1) Visually inspect the left-hand and right-hand ailerons for damage (i.e., distortion, bending, impact marks). Repair or replace any damaged aileron found | (i) For Models N22B and N24A airplanes (airplanes previously affected by AD 2003-22-13): Inspect within the next 50 hours time-in-service (TIS) after December 23, 2003 (the effective date of AD 2003-22-13), unless already done | Following the applicable maintenance manual.
| (ii) For Model N22S airplanes (airplanes not previously affected by AD 2003-22-13): Inspect within the next 10 hours TIS or 30 days, whichever occurs first, after the effective date of this AD, unless already done
| (iii) For all affected airplanes: Repair or replace before further flight after the inspection
(2) Adjust the engine power lever actuated landing gear “up” aural warning microswitches and then perform a ground test. If deficiencies are detected during the ground test, make the necessary adjustments | (i) For Models N22B and N24A airplanes (airplanes previously affected by AD 2003-22-13): Within the next 50 hours TIS after December 23, 2003 (the effective date of AD 2003-22-13), unless already done following Nomad Alert Service Bulletin ANMD-57-18, dated December 19, 2002 | Following Nomad Alert Service Bulletin ANMD-57-18, Rev 1, dated August 14, 2006, and the applicable maintenance manual.
| (ii) For Model N22S airplanes (airplanes not previously affected by AD 2003-22-13): Within the next 10 hours TIS or 30 days, whichever occurs first, after the effective date of this AD, unless already done
(3) For Model N22B airplanes: (i) Fabricate placards that incorporate the following words (using at least ⅛-inch letters) and install these placards on the instrument panel within the pilot's clear view: (A) “RECOMMENDED APPROACH FLAPS 10 OR 20 DEG AT 90 KIAS”; (B) “USE 10° OR 20° FLAP FOR TAKE-OFF AND LANDING—WARNING—DO NOT EXCEED 20° FLAP EXTENSION DURING FLIGHT, LANDING GEAR UP WARNING WILL INITIATE FOR A TORQUE PRESSURE OF LESS THAN 30 PSI”; and (ii) Incorporate the following information into the Limitations section of the Airplane Flight Manual (AFM): (A) Limit the maximum flap extension to 20 degrees; and (B) Limit flaps down operations for landing to 10° or 20° flap. | Within the next 50 hours TIS after December 23, 2003 (the effective date of AD 2003-22-13), unless already done following Nomad Alert Service Bulletin ANMD-57-18, dated December 19, 2002 | Following Nomad Alert Service Bulletin ANMD-57-18, Rev 1, dated August 14, 2006. To show compliance with paragraphs (e)(3)(ii)(A) and (e)(3)(ii)(B) of this AD, a copy of this AD may be inserted into the Limitations section of the AFM. The owner/operator holding at least a private pilot certificate as authorized by section 43.7 of the Federal Aviation Regulations (14 CFR 43.7) may do the AFM insertion and the placard requirements of paragraphs (e)(3)(i)(A) and (e)(3)(i)(B) of this AD. Make an entry into the aircraft records showing compliance with these portions of the AD following section 43.9 of the Federal Aviation Regulations (14 CFR 43.9).
(4) For Model N22S airplanes: (i) Fabricate a placard that incorporates the following words (using at least ⅛-inch letters) and install this placard on the instrument panel within the pilot's clear view: “USE 10° FLAP FOR TAKE-OFF AND LANDING—WARNING—DO NOT EXCEED 10° FLAP EXTENSION DURING FLIGHT, LANDING GEAR UP WARNING WILL INITIATE FOR A TORQUE PRESSURE OF LESS THAN 30 PSI”; and (ii) Incorporate the following information into the Limitations section of the AFM: (A) Limit the maximum flap extension to 10 degrees; and (B) Limit flaps down operations for landing to 10° flap. | Within the next 10 hours TIS or 30 days, whichever occurs first, after the effective date of this AD, unless already done | Following Nomad Alert Service Bulletin ANMD-57-18, Rev 1, dated August 14, 2006. To show compliance with paragraphs (e)(4)(ii)(A) and (e)(4)(ii)(B) of this AD, a copy of this AD may be inserted into the Limitations section of the AFM. The owner/operator holding at least a private pilot certificate as authorized by section 43.7 of the Federal Aviation Regulations (14 CFR 43.7) may do the AFM insertion and the placard requirement of paragraph (e)(4)(i) of this AD. Make an entry into the aircraft records showing compliance with these portions of the AD following section 43.9 of the Federal Aviation Regulations (14 CFR 43.9).
(5) For Model N24A airplanes: (i) Fabricate a placard that incorporates the following words (using at least ⅛-inch letters) and install this placard on the instrument panel within the pilot's clear view: “USE 10° FLAP FOR TAKE-OFF AND LANDING—WARNING—DO NOT EXCEED 10° FLAP EXTENSION DURING FLIGHT, LANDING GEAR UP WARNING WILL INITIATE FOR A TORQUE PRESSURE OF LESS THAN 30 PSI”; and (ii) Incorporate the following information into the Limitations section of the AFM: (A) Limit the maximum flap extension to 10 degrees; and (B) Limit flaps down operations for landing to 10° flap. | Within the next 50 hours TIS after December 23, 2003 (the effective date of AD 2003-22-13), unless already done following Nomad Alert Service Bulletin ANMD-57-18, dated December 19, 2002 | Following Nomad Alert Service Bulletin ANMD-57-18, Rev 1, dated August 14, 2006. To show compliance with paragraphs (e)(5)(ii)(A) and (e)(5)(ii)(B) of this AD, a copy of this AD may be inserted into the Limitations section of the AFM. The owner/operator holding at least a private pilot certificate as authorized by section 43.7 of the Federal Aviation Regulations (14 CFR 43.7) may do the AFM insertion and the placard requirement of paragraph (e)(5)(i) of this AD. Make an entry into the aircraft records showing compliance with these portions of the AD following section 43.9 of the Federal Aviation Regulations (14 CFR 43.9).

Alternative Methods of Compliance (AMOCs)

(f) The Manager, Standards Staff, FAA, ATTN: Doug Rudolph, Aerospace Engineer, Small Airplane Directorate, 901 Locust, Room 301, Kansas City, Missouri 64106; telephone: (816) 329-4059; fax: (816) 329-4090, has the authority to approve AMOCs for this AD, if requested using the procedures found in 14 CFR 39.19.

(g) AMOCs approved for AD 2003-22-13 are not approved for this AD.

Related Information

(h) This AD relates to Australian AD/GAF-N22/69, Amendment 5, dated September 14, 2006, which references Nomad Alert Service Bulletin ANMD-57-18, Rev 1, dated August 14, 2006.

Material Incorporated by Reference

(i) You must use Nomad Alert Service Bulletin ANMD-57-18, Rev 1, dated August 14, 2006, to do the actions required by this AD, unless the AD specifies otherwise.

(1) The Director of the Federal Register approved the incorporation by reference of this service information under 5 U.S.C. 552(a) and 1 CFR part 51.

(2) For service information identified in this AD, contact Nomad Operations, Aerospace Support Division, Boeing Australia, PO Box 767, Brisbane, QLD 4000 Australia; telephone 61 7 3306 3366; fax 61 7 3306 3111.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on October 13, 2006.
James E. Jackson,
Acting Manager, Small Airplane Directorate, Aircraft Certification Service.

[FR Doc. E6-17425 Filed 10-18-06; 8:45 am]

BILLING CODE 4910-13-P